DEPARTMENT OF VETERANS AFFAIRS

Notice of Tribal Consultation and Request for Comments on New Agreement Template Draft for VA's Indian Health Services/Tribal Health Program Reimbursement Agreements

AGENCY: Department of Veterans Affairs.

ACTION: Notice.

SUMMARY: The Department of Veterans Affairs (VA), Veterans Health Administration (VHA) will facilitate a tribal consultation session regarding the expansion of VA's Indian Health Services/Tribal Health Program's (IHS/THP) Reimbursement Agreements Program to include Purchase Referred Care (PRC) and Contracted Travel. VA seeks tribal feedback to assist with drafting an updated Reimbursement Agreement template for the lower 48 states. Input requested includes, but is not limited to, the agreement scope of service, payment rates and invoicing or billing submissions.

DATES: VA will hold an in-person consultation on Tuesday, September 27, 2022, between 4:30 p.m. and 6 p.m. (EST) at the Hyatt Regency Washington, 400 New Jersey Ave. NW, Washington, DC 20001, which will be hosted by the National Indian Health Board. Additionally, VA will hold a virtual consultation on September 30, 2022, between 1-2 p.m. (EST). Written comments must be received on or before September 30, 2022.

ADDRESSES: Participants can attend the in-person consultation at the Hyatt Regency Washington, 400 New Jersey Avenue NW, Washington, DC 20001. Participants can also access the virtual session by logging into: https://vacctraining.adobeconnect.com/r400v3p2dbjq/.

Written comments may also be submitted by any of the following methods: Email: tribalgovernmentconsultation@va.gov or Mail: Department of Veterans Affairs, VHA 16, 810 Vermont Avenue NW, Washington, DC 20420.

FOR FURTHER INFORMATION CONTACT: Ms. Kara Hawthorne, Program Manager, VA Office of Integrated Veteran Care, at Tribal.Agreements@va.gov or 303-780-4826. (This is not a toll-free number.)

SUPPLEMENTARY INFORMATION: Utilizing the authorities found in 25 U.S.C. 1645(c), Sharing Arrangements with Federal Agencies; and 38 U.S.C. 8153, Sharing of Health-Care Resources, VA, IHS/THP and Urban Indian Organizations (UIO) have created the Reimbursement Agreements Program. This program provides a means for IHS/THP and UIO health facilities to receive reimbursement from VA for direct care services provided to eligible American Indian/Alaska Native Veterans. These tribal consultation sessions are seeking input from tribal governments regarding a draft agreement that expands the current agreements to include PRC and Contract Travel. The draft agreement was sent to tribal leadership and can be obtained by emailing Tribal.Agreements@va.gov. Expansion of the agreements to cover such care is authorized by, and consistent with, section 2 of the Proper and Reimbursed Care for Native Veterans Act, Public Law 116-311, which amended section 405(c) of the Indian Health Care Improvement Act (codified at 25 U.S.C. 1645) by clarifying the authority to reimburse for direct care services provided by IHS/THP or UIO health facilities regardless of whether the services are provided directly by such organizations, through purchased/referred care, or through a contract for travel described in 25 U.S.C. 1621I(b).

Signing Authority

Denis McDonough, Secretary of Veterans Affairs, approved this document on September 12, 2022, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2022-20068 Filed 9-15-22; 8:45 am]

BILLING CODE 8320-01-P